DEPARTMENT OF HEALTH AND HUMAN SERVICES

Administration for Children and Families

Proposed Information Collection Activity; Comment Request

Proposed Projects

Title: Child Support Enforcement Program Expenditure Report (Form OCSE-396A) and the Child Support Enforcement Program Collection Report (Form OCSE-34A).

OMB No.: 0970-0181.

Description: State and Tribal agencies administering the Child Support Enforcement Program under Title IV-D of the Social Security Act are required to provide information each fiscal quarter to the Office of Child Support Enforcement (OCSE) concerning administrative expenditures and the receipt and disposition of child support payments from non-custodial parents. State title IV-D agencies report quarterly expenditures and collections using Forms OCSE-396A and OCSE-34A, respectively. Tribal title IV-D agencies report quarterly expenditures using Form SF-269, as prescribed in program regulations, and formerly reported quarterly collections using only a modified version of Form OCSE-34A. The information collected on these reporting forms is used to compute quarterly grant awards to States and Tribes, the annual incentive payments to States and provides valuable information on program finances. This information is also included in a published annual statistical and financial report, available to the general public.

In response to an earlier Federal Register Notice (75 FR 10805, March 9, 2010), this agency received insufficient comments to support any substantial changes to these forms at this time. However, we continue to discuss improvements to these reporting forms with State and Tribal grantees and anticipate some minor revisions will be proposed in the near future. These revisions will be limited to any changes that may be necessitated by the expiration of program requirements under the “American Recovery and Reinvestment Act of 2009” (ARRA) and changes to reporting instructions that will allow Tribal grantees to, at least, use the same quarterly collection report submitted by State grantees.

Respondents: State agencies (including the District of Columbia, Puerto Rico, Guam and the Virgin Islands) administering the Child Support Enforcement Program.

Annual Burden Estimates
Instrument | Number of respondents | Number of responses per respondent | Average burden hours per response | Total burden hours
OCSE-396A | 54 | 4 | 6 | 1,296
OCSE-34A | 54 | 4 | 14 | 3,024

Estimated Total Annual Burden Hours: 4,320.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2012-28795 Filed 11-27-12; 8:45 am]

BILLING CODE 4184-01-P